DEPARTMENT OF STATE

[Public Notice: 12576]

30-Day Notice of Proposed Information Collection: Request for Authentications Service

ACTION: Notice of request for public comments.

SUMMARY: The Department of State has submitted the information collections described below to the Office of Management and Budget (OMB) for approval. In accordance with the Paperwork Reduction Act of 1995, we are requesting comments on these collections from all interested individuals and organizations. The purpose of this Notice is to allow 30 days for public comment.

DATES: The Department will accept comments from the public up to December 9, 2024.

ADDRESSES: Written comments and recommendations for the proposed information collection should be sent within 30 days of publication of this notice to: www.reginfo.gov/public/do/PRAMain. Find this information collection by selecting “Currently under 30-day Review—Open for Public Comments” or by using the search function. You must include the DS form number, information collection title, and the OMB control number in any correspondence (if applicable). You may send requests for additional information regarding the collection listed in this notice, including requests for copies of the proposed collection instrument and supporting documents, to the following email address: Passport-Form-Comments@State.gov. You must include the DS form number and information collection title in the email subject line.

SUPPLEMENTARY INFORMATION:

• Title of Information Collection: Request for Authentications Service.

• OMB Control Number: 1405-0254.

• Type of Request: Renewal of a currently approved collection.

• Originating Office: Bureau of Consular Affairs, Passport Services, Office of Program Management and Operational Support (CA/PPT/S/PMO).

• Form Number: DS-4194.

• Respondents: Individuals, Institutions, Government Agencies.

• Estimated Number of Respondents: 60,734.

• Estimated Number of Responses: 60,734.

• Average Time per Response: 10 minutes.

• Total Estimated Burden Time: 10,122 hours.

• Frequency: Information is requested only when an applicant submits the form to obtain a benefit.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Request for Authentications Service is used to request authentications services from the Authentications Office of the U.S. Department of State in the United States. In accordance with 22 CFR part 131, the Office of Authentications provides authentication services for Federal public documents that will be used overseas. These services support individuals, commercial organizations, institutions, and Federal and State government agencies seeking to use certain documents abroad.

Methodology

The form can be downloaded from eforms.state.gov and can be printed for manual signature and submission by mail or hand-delivery.

Amanda E. Smith,
Managing Director for Passport Support Operations, Bureau of Consular Affairs, Passport Services, Department of State.

[FR Doc. 2024-25871 Filed 11-6-24; 8:45 am]

BILLING CODE 4710-06-P